DEPARTMENT OF COMMERCE

Bureau of Industry and Security

Discontinuance of Information Collection 0694-0009: Triangular Transactions “Stamp” Covered by a U.S. Import Certificate

AGENCY: Bureau of Industry and Security, Commere.

ACTION: Notice.

SUMMARY: The Department of Commerce, as part of its continuing effort to reduce paperwork and respondent burden, has discontinued Information Collection 0694-0009, “Triangular Transactions Covered by a U.S. Import Certificate.” Although this collection has been discontinued, the Triangular Transactions “Stamp” is still valid and has been added to collection 0694-0017 as a supplemental document.

FOR FURTHER INFORMATION CONTACT: Requests for additional information should be directed to Mark Crace, BIS ICB Liaison, (202)482-8093 or Mark.Crace@bis.doc.gov.

Sheleen Dumas,
Departmental PRA Lead, Office of the Chief Information Officer.

[FR Doc. 2016-25125 Filed 10-17-16; 8:45 am]

BILLING CODE 3510-33-P